DEPARTMENT OF COMMERCE

National Oceanic and Atmospheric Administration

[I.D. 072401B]

Pacific Fishery Management Council; Public Meeting

AGENCY: National Marine Fisheries Service (NMFS), National Oceanic and Atmospheric Administration (NOAA), Commerce.

ACTION: Notice of public meeting.

SUMMARY: The Pacific Fishery Management Council's (Council) Highly Migratory Species Advisory Subpanel (HMSAS) will hold a work session, which is open to the public.

DATES: The HMSAS will meet on Sunday, August 26, 2001 from 1 p.m. to 5 p.m.; and Monday, August 27, 2001 from 8 a.m. until business for the day is completed.

ADDRESSES: The work session will be held in the large conference room at the California Department of Fish and Game, 4665 Lampson Avenue, Suite C, Los Alamitos, CA 90720; (562) 342-7100.

Council address: Council address: Pacific Fishery Management Council, 7700 NE Ambassador Place, Suite 200, Portland, OR 97220-1384.

FOR FURTHER INFORMATION CONTACT: Dan Waldeck, Pacific Fishery Management Council, (503) 326-6352.

SUPPLEMENTARY INFORMATION: The primary purpose of the work session is to review draft highly migratory species (HMS) fishery management plan documents. The draft management plan was revised by the HMS Plan Development Team in response to Council guidance.

Although nonemergency issues not contained in the HMSAS meeting agenda may come before the HMSAS for discussion, those issues may not be the subject of formal HMSAS action during this meeting. HMSAS action will be restricted to those issues specifically listed in this document and any issues arising after publication of this document that require emergency action under section 305 (c) of the Magnuson-Stevens Act, provided the public has been notified of the HMSAS's intent to take final action to address the emergency.

Special Accommodations

The meeting is physically accessible to people with disabilities. Requests for sign language interpretation or other auxiliary aids should be directed to Ms. Carolyn Porter at (503) 326-6352 at least 5 days prior to the meeting date.

Dated: August 2, 2001.
Richard W. Surdi,
Acting Director, Office of Sustainable Fisheries, National Marine Fisheries Service.

[FR Doc. 01-19901 Filed 8-7-01; 8:45 am]

BILLING CODE 3510-22-S